DEPARTMENT OF LABOR

Agency Information Collection Activities; Submission for OMB Review; Comment Request; Contingent Worker Supplement to the Current Population Survey

ACTION: Notice of availability; request for comments.

SUMMARY: The Department of Labor (DOL) is submitting this Bureau of Labor Statistics (BLS)-sponsored information collection request (ICR) to the Office of Management and Budget (OMB) for review and approval in accordance with the Paperwork Reduction Act of 1995 (PRA). Public comments on the ICR are invited.

DATES: The OMB will consider all written comments that the agency receives on or before May 10, 2023.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Nicole Bouchet by telephone at 202-693-0213, or by email at DOL_PRA_PUBLIC@dol.gov.

SUPPLEMENTARY INFORMATION: The proposed Contingent Work Supplement (CWS) to the Current Population Survey questions focus on contingent workers—those who do not expect their jobs to last or who report that their jobs are temporary—and workers in alternative employment arrangements, such as independent contractors, on-call workers, temporary help agency workers, and workers provided by contract firms. Although the CWS was fielded 5 times from 1995 to 2005 and then in May 2017, there have been no comparable and reliable statistics in recent years to show how the number and characteristics of these workers are changing over time. The July 2023 CWS will allow researchers and policy makers to evaluate how the number and characteristics of these workers has evolved. BLS is proposing to add new questions and remove outdated questions to the CWS. New questions on task-based and app-based work are designed to provide insight into additional work arrangements like digital labor platform work. This new content replaces the 2017 items on electronically-mediated employment. The 2023 supplement will also ask about work arrangements on second jobs for multiple jobholders. For additional substantive information about this ICR see the related notice published in the Federal Register on December 23, 2022 (87 FR 78999).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-BLS.

Title of Collection: Contingent Worker Supplement to the Current Population Survey.

OMB Control Number: 1220-0153.

Affected Public: Individuals or Households.

Total Estimated Number of Respondents: 47,000.

Total Estimated Number of Responses: 47,000.

Total Estimated Annual Time Burden: 4,700 hours.

Total Estimated Annual Other Costs Burden: $0.

(Authority: 44 U.S.C. 3507(a)(1)(D))

Nicole Bouchet,
Senior PRA Analyst.

[FR Doc. 2023-07432 Filed 4-7-23; 8:45 am]

BILLING CODE 4510-26-P